DEPARTMENT OF COMMERCE

International Trade Administration

AGENCY: International Trade Administration, Department of Commerce

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

High Technology Solutions Trade Mission.

Paris, France; Florence, Italy; and (optional) Warsaw, Poland.

May 12-22, 2001.

Recruitment closes on April 1, 2001.

For further information contact: Mr. Michael Manning, U.S. Department of Commerce.

Telephone 609-989-2100, ext 12; or e-Mail: Michael.Manning@mail.doc.gov.

Women in Trade Business Development Mission.

Milan, Italy and Athens, Greece.

May 20-24, 2001.

Recruitment closes on March 20, 2001.

For further information contact: Ms. Loretta Allison, U.S. Department of Commerce.

Telephone 202-482-5479; or e-Mail: Loretta_Allison@ita.doc.gov.

Used Equipment Trade Mission.

Guatemala City, Guatemala; Tegucigalpa and San Pedro Sula, Honduras.

June 3-8, 2001.

Recruitment closes on May 10, 2001.

For further information contact: Mr. John Bodson, U.S. Department of Commerce.

Telephone 202-482-0681; or e-Mail: John_Bodson@ita.doc.gov.

Aerospace Executive Service at the Paris Air Show.

Paris, France.

June 17-24, 2001.

Recruitment closes on March 23, 2001.

For further information contact: Ms. Kelly Bergren, U.S. Department of Commerce.

Telephone 860-638-6950; or e-Mail: Kelly.Bergren@mail.doc.gov. Or, Ms. Cara Boulesteix, American Embassy, 2 avenue Gabriel, 75008 Paris, France.

Telephone 011-33-1-42-12-22-79; or fax to 011-33-1-42-12-21-72.

For further information contact Mr. Reginald Beckham, U.S. Department of Commerce.

Telephone 202-482-5478, or e-Mail Reginald_Beckham@ita.doc.gov.

Dated: February 8, 2001.
Thomas H. Nisbet,
Director, Promotion Planning and Support Division, Office of Export Promotion Coordination.

[FR Doc. 01-3687 Filed 2-13-01; 8:45 am]

BILLING CODE 3510-DR-U